DEPARTMENT OF THE TREASURY

Submission for OMB Review; Comment Request

October 16, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 27, 2000 to be assured of consideration.

Bureau of Alcohol, Tobacco and Firearms (BATF)

OMB Number: 1512-0021.

Form Number: ATF F 4587 (5330.4).

Type of Review: Extension.

Title: Application to Register as an Importer of U.S. Munitions Import List Articles.

Description: Filing of this form with ATF and payment of the associated fee authorizes the registrant to import U.S. Munitions Import List articles, such as firearms, ammunition, military vehicles, aircraft, vessels of war, etc. Maintenance of this form by ATF allows determinations about the eligibility of an entity to import such articles into the U.S.

Respondents: Business or other for-profit.

Estimated Number of Respondents: 300.

Estimated Burden Hours Per Respondent: 30 minutes.

Frequency of Response: Other (optionally for 1 to 5 years).

Estimated Total Reporting Burden: 150 hours.

OMB Number: 1512-0502.

Recordkeeping Requirement ID Number: ATF REC 5210/12 and ATF REC 5210/1.

Type of Review: Extension.

Title: Tobacco Products Manufacturers—Notice For Tobacco Products (5210/12); and Records of Operations (5210/1).

Description: Tobacco products manufacturers maintain a record system showing tobacco and tobacco product receipts, production and dispositions which support removals subject to tax; transfers in bond; and inventory records. These records are vital to tax enforcement.

Respondents: Business or other for-profit.

Estimated Number of Respondents: 108.

Estimated Burden Hours Per Recordkeeper: 1.

Estimated Total Reporting Burden: 1 hour.

Clearance Officer: Frank Bowers, (202) 927-8930, Bureau of Alcohol, Tobacco and Firearms, Room 3200, 650 Massachusetts Avenue, NW., Washington, DC 20226.

OMB Reviewer: Alexander T. Hunt, (202) 395-7860, Office of Management and Budget, Room 10202, New Executive Office Building, Washington, DC 20503.

Lois K. Holland,
Departmental Reports Management Officer.

[FR Doc. 00-30066 Filed 11-24-00; 8:45 am]

BILLING CODE 4810-31-M